DEPARTMENT OF COMMERCE

National Oceanic and Atmospheric Administration

50 CFR Part 648

RIN 0648-BO26

Fisheries of the Northeastern United States; Amendment 25 (Revised) to the Northeast Multispecies Fishery Management Plan; Atlantic Cod Stocks in Need of Conservation and Management

AGENCY: National Marine Fisheries Service (NMFS), National Oceanic and Atmospheric Administration (NOAA), Commerce.

ACTION: Notice of availability of fishery management plan amendment; request for comments.

SUMMARY: NMFS announces that the New England Fishery Management Council (Council) has transmitted Amendment 25 (Revised) to the Northeast Multispecies Fishery Management Plan (FMP) to the Secretary of Commerce for review. If approved, Amendment 25 would revise the stocks of Atlantic cod managed in the FMP and include measures in the FMP necessary to manage four stocks of Atlantic cod in U.S. waters. The Council has deemed this action necessary to incorporate the best scientific information available from the most recent Research Track Assessment of Atlantic Cod and establish associated management measures under the FMP. This notice is intended to alert the public to this action and provide an opportunity for comment.

DATES: Comments on Amendment 25 must be received on or before March 16, 2026.

ADDRESSES: You may submit comments on this document, identified by NOAA-NMFS-2025-1230, by the following method:

• Electronic Submission: Submit all electronic public comments via the Federal e-Rulemaking Portal. Go to https://www.regulations.gov and enter NOAA-NMFS-2025-1230 in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Electronic copies of Amendment 25 may be obtained from https://www.regulations.gov and the New England Fishery Management Council website at https://www. https://www.nefmc.org/library/northeast-multispecies-groundfish-amendment-25. Electronic copies of the 2023 Research Track Assessment of Atlantic Cod may be obtained from https://apps-nefsc.fisheries.noaa.gov/saw/sasi.php.

FOR FURTHER INFORMATION CONTACT: Heather Nelson, Fishery Management Specialist, 978-281-9334, heather.nelson@noaa.gov.

SUPPLEMENTARY INFORMATION: The Council manages the groundfish fishery under the Northeast Multispecies FMP. Since its creation in 1985, the FMP has been based on scientific information indicating that Atlantic cod consist of two biological stock units: Gulf of Maine cod and Georges Bank cod. Recent scientific information indicating that Atlantic cod is more appropriately considered to consist of four biological stocks was explored in the 2023 Research Track Assessment of Atlantic Cod (See ADDRESSES). A peer review of the research track stock assessment approved the outcomes of the assessment, including a four-stock structure for Atlantic cod determination. A copy of the Summary Report of the Atlantic Cod Research Track Stock Assessment Peer Review is available at: https://www.fisheries.noaa.gov/s3//2023-08/PanelSummaryReportoftheAtlanticCodRTPeerReviewAugust172023-mlt-508-8-23-23ajd-508gw.pdf.

In April of 2024, the Council began development of Amendment 25 to revise the FMP to reflect four stocks of Atlantic cod defined in the 2023 Research Track Assessment of Atlantic Cod. The Council also initiated an action at that time, Framework Adjustment 69 to the FMP (Framework 69), to address implementing measures for those four stocks that would be necessary to prevent overfishing and ensure accountability as required by the Magnuson-Stevens Act, including maximum sustainable yield, optimum yield, status determination criteria, and accountability measures. The Council developed Framework 69 in connection with, and dependent on, Amendment 25. After the transmittal of Amendment 25 from the Council, NMFS published a Notice of Availability on March 5, 2025, in the Federal Register (90 FR 11246), with a comment period that closed on May 5, 2025. On May 15, 2025, NMFS disapproved Amendment 25. NMFS disapproved Amendment 25 for several reasons, including that the procedural approach to using Framework 69 as a companion trailing action to Amendment 25 did not fully address the requirements of the Magnuson-Stevens Act. On May 19, 2025, the Regional Administrator sent a letter notifying the Council of the disapproval and the reasons for disapproval of Amendment 25. As required by section 304(a)(3) of the Magnuson-Stevens Act, the letter provided recommendations for actions that could be taken by the Council to resolve the issues that led to the disapproval. Specifically, NMFS explained that the Council could revise Amendment 25 or develop a new amendment for Secretarial review after addressing the relevant legal requirements. The letter also described the extent and nature of the public comments, which, among other things, expressed a need for further supporting analysis regarding the allocation of four cod stocks.

The Council has subsequently revised Amendment 25 to incorporate management measures that were previously separated into Framework 69 and address the reasons for disapproval. At its September 2025 meeting, the Council voted to adopt and resubmit the revised Amendment 25 to NMFS for review and approval. To support the Council's decision-making and to provide a transparent analysis of the potential allocation impacts of four cod stocks, the Council developed Appendix III and included it in the revised Amendment 25 document.

After reviewing the National Standard guidelines implementing the Magnuson-Stevens Act, and NMFS's recommendations in its May 15, 2025, letter, the Council recommended in the revised Amendment 25 that the four new Atlantic cod stocks in the FMP be:

• A new stock unit of Eastern Gulf of Maine (EGOM) cod;

• A new stock unit of Western Gulf of Maine (WGOM) cod;

• A revised stock unit of Georges Bank (GB) cod; and

• A new stock unit of Southern New England (SNE) cod.

The overall geographic area managed under Amendment 25 would remain unchanged and would continue to encompass all Atlantic cod in U.S. waters (see table 1 and figure 1).

Table 1—Statistical Reporting Areas (SRA) Comprising the Stock Areas for the Four New Atlantic Cod Stock Units as Determined by the 2023 Atlantic Cod Research Track Assessment
Stock | SRAs
EGOM cod | 465, 467, 511, 512.
WGOM cod | 513, 514, 515, 521, 526, 541.
GB cod | 464, 522, 525, 542, 543, 551, 552, 561, 562.
SNE cod | 533, 534, 537, 538, 539, 611, 612, 613, 614, 615, 616, 621, 622, 623, 624, 625, 626, 627, 628, 629, 631, 632, 633, 634, 635, 636, 637, 638, 639.

Figure 1—Stock Areas for the Four New Atlantic Cod Stock Units and the Current Two Atlantic Cod Stock Units

The Council also recommended status determination criteria, reference points, and implementing regulations for four stocks of Atlantic cod intended to achieve optimum yield, prevent overfishing, and ensure accountability. These are:

• Regulatory definitions for the stock areas for each of the four cod stocks;

• Status Determination Criteria for the four cod stocks;

• Specifications for the four cod stocks for fishing year 2026;

• An apportionment method for setting the WGOM cod commercial sub-annual catch limit;

• Management uncertainty buffers for the four cod stocks;

• Recreational sub-annual catch limits for WGOM and SNE cod;

• Common pool trimester total allowable catch (TAC) distributions, TAC closure areas, and baseline common pool trip limits for the four cod stocks;

• Recreational measures for SNE cod; and

• A regulatory process for the Regional Administrator to set recreational measures for GB and EGOM cod for fishing year 2026.

The FMP specifies the management measures for 13 groundfish species (cod, haddock, yellowtail flounder, pollock, plaice, witch flounder, white hake, windowpane flounder, Atlantic halibut, winter flounder, redfish, ocean pout, and Atlantic wolffish) off the New England and Mid-Atlantic coasts. Some of these species (cod, haddock, yellowtail flounder, winter flounder, and windowpane flounder) are further sub-divided into individual stocks that are attributed to different geographic areas.

Section 301 of the Magnuson-Stevens Act (16 U.S.C. 1801 et seq.) requires any FMP or amendment to be consistent with 10 National Standards. In developing Amendment 25, the Council considered the National Standard guidelines, including the guidance for adding or removing a stock from an FMP (see ADDRESSES). The National Standard guidelines at 50 CFR 600.305(c)(7) state that councils should periodically review FMPs and the best scientific information available (§ 600.315(a)) to determine if the stocks are appropriately defined. The guidelines at § 600.305(c) state that any stock that is predominately caught in Federal waters and is overfished or subject to overfishing, or likely to become overfished or subject to overfishing, is considered to require conservation and management. In the same paragraph, the guidelines also include a non-exhaustive list of factors that a council should consider when deciding whether stocks require conservation and management. In Amendment 25, the Council included an analysis of those factors as the basis for determining that four cod stocks, as defined by the 2023 Research Track Assessment of Atlantic Cod, each require conservation and management.

NMFS welcomes comments on the proposed FMP amendment through the end of the 60-day comment period. For public comments to be considered in the approval or disapproval decision on Amendment 25, those comments must be received by the last day of the comment period on Amendment 25. All comments received by the end of the Amendment 25 comment period will be considered in the approval or disapproval decision.

Authority: 16 U.S.C. 1801 et seq.

Dated: January 8, 2026.
Kelly Denit,
Director, Office of Sustainable Fisheries, National Marine Fisheries Service.

[FR Doc. 2026-00498 Filed 1-12-26; 8:45 am]

BILLING CODE 3510-22-P